FEDERAL COMMUNICATIONS COMMISSION

[Report No. AUC-03-52-B (Auction No. 52); DA 03-793]

Auction of Direct Broadcast Satellite Service Deadlines Extended for Comments and Reply Comments

AGENCY: Federal Communications Commission.

ACTION: Notice.

SUMMARY: This document extends the comment and reply comment date to allow additional time to comment on reserve prices or minimum opening bids and other auction procedures in Auction No. 52.

DATES: Comments are due on or before March 24, 2003 and reply comments are due on or before March 31, 2003.

ADDRESSES: Comments and reply comments must be sent by electronic mail to the following address: auction52@fcc.gov.

FOR FURTHER INFORMATION CONTACT: Brian Carter at (202) 418-0660.

SUPPLEMENTARY INFORMATION: On March 3, 2003, the Commission released the Auction No. 52 Comment Public Notice, published elsewhere in this issue of the Federal Register, announcing the auction of licenses to use the Direct Broadcast Satellite (“DBS”) service allocation. Comments were due on or before March 17, 2003, and reply comments were due on or before March 24, 2003. By this document, the Wireless Telecommunications Bureau extends the deadline for comments to March 24, 2003, and the deadline for reply comments to March 31, 2003.

Federal Communications Commission.
Margaret Wiener,
Chief, Auctions and Industry Analysis Division, WTB.

[FR Doc. 03-6588 Filed 3-17-03; 8:45 am]

BILLING CODE 6712-01-P